DEPARTMENT OF VETERANS AFFAIRS

Notice of Intent To Grant Exclusive License

AGENCY: Department of Veterans Affairs, Office of Research and Development.

ACTION: Notice of intent.

SUMMARY: Notice is hereby given that the Department of Veterans Affairs, Office of Research and Development, intends to grant to Recovery Pharmaceuticals, Inc., 25 Main Street, Wayland, MA 01778, U.S.A., an exclusive license to practice U.S. Patent Application Serial No.09/070,263, filed April 30, 1998, issuing as U.S. Patent 6,211,194, entitled “Solution Containing Nicotine”.

DATES: Comments must be received within fifteen (15) days from the date of this published Notice.

ADDRESSES: Send comments to: Robert W. Potts, Director of Technology Transfer, Department of Veterans Affairs; Attn: 122TT; 810 Vermont Avenue NW; Washington, DC 20420. Telephone: (202) 254-0260; Facsimile: (202) 254-0473; e-mail: bob.potts@hq.mail.va.gov

FOR FURTHER INFORMATION CONTACT: Copies of the published patent applications may be obtained from the U.S. Patent and Trademark Office at http://www.uspto.gov.

SUPPLEMENTARY INFORMATION: It is in the public interest to so license this invention as Recovery Pharmaceuticals, Inc., submitted a complete and sufficient application for a license. The prospective exclusive license will be royalty-bearing and will comply with the terms and conditions of 35 U.S.C. 209 and 37 CFR 404.7. The prospective exclusive license may be granted unless, within fifteen (15) days from the date of this published Notice, the Department of Veterans Affairs Office of Research and Development receives written evidence and argument which establishes that the grant of the license would not be consistent with the requirements of 35 U.S.C. 209 and 37 CFR 404.7.

Dated: October 16, 2003.
Anthony J. Principi,
Secretary, Department of Veterans Affairs.

[FR Doc. 03-26689 Filed 10-22-03; 8:45 am]

BILLING CODE 8320-01-P